DEPARTMENT OF AGRICULTURE

Submission for OMB Review; Comment Request

March 31, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding these information collections are best assured of having their full effect if received by May 6, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Commercial Agricultural Expansion Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of agricultural operations with potential sales of $50,000 or greater in Hawaii. Selected farmers will be asked to provide data on (1) Interest for and reasons for expanding the respondent's commercial agriculture operation, (2) Barriers to expanding the respondent's commercial agricultural operations and respondent's needs to expand, as well as (3) Some basic information about the respondent's operation such as top producing commodities, point of first sale, range for number of employees, etc. General authority for these data collection activities is granted under U.S.C. Title 7, Section 2204. This project is conducted as a cooperative effort with the Hawaii Department of Agriculture. Funding for this survey is being provided by the Hawaii Department of Agriculture.

Need and Use of the Information: The COVID-19 pandemic has renewed Hawaii's efforts to reduce the reliance on imports. The goal of this survey is to assess Hawaii agricultural producers' interest in expanding their commercial production and identify barriers to expansion. The Hawaii Department of Agriculture (HDOA) requested this one-time project to collect this valuable information to assist in their decision-making process when establishing and administering a grant program.

Description of Respondents: A sample of all active agricultural operations with potential sales of $50,000 or greater in Hawaii.

Number of Respondents: 1,150.

Frequency of Responses: Reporting: Once a year.

Total Burden Hours: 346.

Levi S. Harrell,
Departmental Information Collection Clearance Officer.

[FR Doc. 2021-06981 Filed 4-5-21; 8:45 am]

BILLING CODE 3410-20-P